DEPARTMENT OF JUSTICE

Antitrust Division

Notice Pursuant to the National Cooperative Research and Production Act of 1993—Open DeviceNet Vendor Association, Inc.

Notice is hereby given that, on February 10, 2006, pursuant to Section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, Switchgear & Instrumentation, Ltd., Bradford, United Kingdom; Kawasaki Heavy Industries, Ltd., Hyogo, Japan; Flowserve Corporation, Lynchburg, VA; Weidmueller Interface GmbH & Co. KG, Detmold, Germany; ELAU AG, Marktheidenfeld, Germany; JVL Industri Elektronik A/S, Birkerod, Denmark; OPTO-22, Tennecula, CA; Smart Network Devices GmbH, Juelich, Germany; ELETTRO STEMI S.R.L., Altavilla Vicentina, Italy; and Control Technology Corporation, Hopkinton, MA have been added as parties to this venture.

Also, HaePyung Electronics Research Institute, Kumi-City, Republic of Korea; Crouzet Automatismes SA, Bourguebus, France; Turbotek, Kyunggi-do, Republic of Korea; Fairchild Industrial Products Company, Winston-Salem, NC; Draka USA, Franklin, MA; KDT Systems Co., Ltd., Yongin-City, Republic of Korea; PDL Electronics Ltd., Napier, New Zealand; and Dressler HF—Technik GmbH, Stolberg, Germany have withdrawn as parties to this venture.

No other changes have been made in either the membership or planned activity of the group research project. Membership in this group research project remains open, and ODVA intends to file additional written notification disclosing all changes in membership.

On June 21, 1995, ODVA filed its original notification pursuant to Section 6(a) of the Act. The Department of Justice published a notice in the Federal Register pursuant to Section 6(b) of the Act on February 15, 1996 (61 FR 6039).

The last notification was filed with the Department on September 1, 2005. A notice was published in the Federal Register pursuant to Section 6(b) of the Act on September 23, 2005 (70 FR 55921).

Dorothy B. Fountain,
Deputy Director of Operations, Antitrust Division.

[FR Doc. 06-2132 Filed 3-06-06; 8:45 am]

BILLING CODE 4410-11-M